DEPARTMENT OF THE INTERIOR

Bureau of Land Management

[LLNV952000 L14200000.BJ0000 241A; 12-08807; MO# 4500037085; TAS: 14X1109]

Filing of Plats of Survey; Nevada

AGENCY: Bureau of Land Management, Interior.

ACTION: Notice.

SUMMARY: The purpose of this notice is to inform the public and interested State and local government officials of the filing of Plats of Survey in Nevada.

DATES: Effective Dates: Filing is effective at 10:00 a.m. on the dates indicated below.

FOR FURTHER INFORMATION CONTACT: David D. Morlan, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plats of Survey of the following described lands were officially filed at the Nevada State Office, Reno, Nevada on May 9, 2012:

A plat, in 5 sheets, representing the dependent resurvey of portions of the east and north boundaries and a portion of the subdivisional lines, the subdivision of sections 14 and 24, and the survey of the meanders of portions of the 4,144-foot contour line, Township 32 North, Range 32 East, of the Mount Diablo Meridian, Nevada, under Group No. 884, was accepted May 3, 2012.

A plat, in 2 sheets, representing the dependent resurvey of a portion of the north boundary and a portion of the subdivisional lines, the subdivision of sections 6 and 18, and the survey of the meanders of portions of the 4,144-foot contour line, Township 32 North, Range 33 East, of the Mount Diablo Meridian, Nevada, under Group No. 884, was accepted May 3, 2012. This survey was executed to meet certain administrative needs of the Pershing County Water Conservation District.

A plat, in 3 sheets, representing the dependent resurvey of a portion of the South boundary of Township 32 North, Range 32 East and a portion of the South boundary of Township 32 North, Range 33 East, and the dependent resurvey of a portion of the south boundary, the west boundary, and a portion of the subdivisional lines, the subdivision of sections 8, 18, 20, 30 and 32, and the survey of the meanders of portions of the 4,144-foot contour line, Township 31 North, Range 33 East, of the Mount Diablo Meridian, Nevada, under Group No. 896, was accepted May 3, 2012. This survey was executed to meet certain administrative needs of the Pershing County Water Conservation District.

2. The Plat of Survey of the following described lands was officially filed at the Nevada State Office, Reno, Nevada on May 15, 2012:

A plat, representing the dependent resurvey of the Fourth Standard Parallel North, through a portion of Range 38 East, a portion of the east boundary and a portion of the subdivisional lines, Township 21 North, Range 38 East, of the Mount Diablo Meridian, Nevada, under Group No. 904, was accepted May 10, 2012. This survey was executed to meet certain administrative needs of the Bureau of Land Management.

3. The Plat of Survey of the following described lands was officially filed at the Nevada State Office, Reno, Nevada on June 20, 2012:

A plat, in 4 sheets, representing the dependent resurvey of a portion of the present California-Nevada state line, from witness mile post No. 52½ to mile post No. 60, a portion of the south boundary, the east boundary, a portion of the north boundary and the subdivisional lines, and the subdivision of certain sections, Township 38 North, Range 18 East, of the Mount Diablo Meridian, Nevada, under Group No. 872, was accepted June 13, 2012. This survey was executed to meet certain administrative needs of the Bureau of Land Management.

The surveys listed above are now the basic record for describing the lands for all authorized purposes. These surveys have been placed in the open files in the Bureau of Land Management, Nevada State Office and are available to the public as a matter of information. Copies of the surveys and related field notes may be furnished to the public upon payment of the appropriate fees.

Dated: August 10, 2012.
David D. Morlan,
Chief Cadastral Surveyor, Nevada.

[FR Doc. 2012-20477 Filed 8-20-12; 8:45 am]

BILLING CODE 4310-HC-P